FEDERAL ELECTION COMMISSION

Sunshine Act Notices

DATE AND TIME: Thursday, October 28, 2004 at 10 a.m.

PLACE: 999 E Street, NW., Washington, DC (Ninth Floor).

STATUS: This meeting will be open to the public.

ITEMS TO BE DISCUSSED: Correction and Approval of Minutes.

Draft Advisory Opinion 2004-38: George Nethercutt and the Nethercutt for Senate Committee by counsel, Stephen M. Hoersting and Tim McKeever.

Draft Advisory Opinion 2004-39: Washington State Republican Party by Chris Vance, Chairman (Tentative).

Explanation and justification for the Political Committee rulemaking.

Routine administrative matters.

SPECIAL EXECUTIVE SESSION: Date and Time: Thursday, October 28, 2004, to follow the opening meeting.

Place: 999 E Street, NW., Washington, DC.

Status: This meeting will be closed to the public pursuant to 11 CFR 2.4(b)(7).

Person to Contact for Information: Mr. Robert Biersack, Acting Press Officer, Telephone: (202) 694-1220.

Mary W. Dove,
Secretary of the Commission.

[FR Doc. 04-23855 Filed 10-20-04; 2:53 pm]

BILLING CODE 6715-01-M